DEPARTMENT OF HEALTH AND HUMAN SERVICES

Centers for Disease Control and Prevention

[60Day-09BG]

Proposed Data Collection Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Field Test of Communication and Marketing Variables for Health Protection—New—National Center for Health Marketing/Coordinating Center for Health Information Service (NCHM/CCHIS), Centers for Disease Control and Prevention (CDC).

Background and Brief Description

CDC does not have a mechanism to assess and monitor the health communication and marketing components of health protection. While CDC does evaluate specific health communication and marketing programs and projects, the common elements rooted in communication and marketing theories and constructs are not identified across programs and projects, nor frequently compared after the fact to ascertain the underlying factors and dynamics that inform and shape individual and group behaviors and actions. The purpose of this project is to develop a core set of communication and marketing constructs to inform CDC health protection programs and projects as well as track population-level changes over time.

CDC seeks a flexible platform that can be adapted to explore a wide range of health protection behaviors and inform communication and marketing efforts across CDC program areas. The survey platform underlying this field test is based on the People and Places framework (Maibach et al., 2007; http://www.biomedcentral.com/1471=2458/7/88), and incorporates key constructs from health behavior theories and communication models to illustrate how personal and environmental factors may influence behavior. This platform offers the flexibility to develop survey items to assess a specific health topic (e.g., pan/seasonal flu, natural hazards, bioterrorism, etc.) while simultaneously relying on a standardized set of core underlying social-psychological and communication constructs.

The proposed data collection is to conduct a field test of the survey instrument focusing on the core communication and marketing constructs for health protection behaviors. The field test survey will be administered to a purposive sample of 1,500 respondents. Two modes of administration will be tested, telephone (both landline and cell) and self-administration via the Web. The telephone survey will be conducted in three metropolitan areas. The Web survey will use an on-going national consumer panel.

Rather than representative random sampling from the population, the sampling is purposive, designed to reach subpopulations of those who are vulnerable from a health protections perspective and those who have low health literacy, that is, difficulty accessing and/or understanding health messages. Therefore, included in the target groups are the elderly, who may be somewhat isolated and for whom health messages may be confusing; people of low socioeconomic status, whose level of education can be a barrier to comprehending and following health messages; and persons not fluent in English, for whom innovative ways of communicating health messages may be necessary. For this nonprobability sample, telephone respondents will be recruited through commercial lists that optimize reaching specific subpopulations. Members of the general population will be surveyed as well in order to provide a benchmark for the subpopulations of interest. Web respondents will be recruited through an existing national consumer panel.

CDC will use the field test data to assess continuity of response patterns within each of the subgroups and to determine differences in administration time. In addition to subgroup population differences in attitudes, beliefs, and health behaviors, CDC will use the data to examine item-level mode effects, regional differences, and administrative/logistical barriers to guide the design of core measure surveys for other health protection behaviors.

There is no cost to respondents other than their time to complete the survey.

Estimated Annualized Burden Hours
Respondents | Number of respondents | Number of responses per respondent | Average burden per response (in hours) | Total burden (in hours)
Screener | 15,000 | 1 | 2/60 | 500
General Population Survey | 750 | 1 | 18/60 | 225
Elderly Survey | 250 | 1 | 18/60 | 75
Low SES English Survey | 250 | 1 | 18/60 | 75
Hispanic (in-language) Survey | 150 | 1 | 18/60 | 45
Chinese (in-language) Survey | 50 | 1 | 18/60 | 15
Vietnamese (in-language) Survey | 50 | 1 | 18/60 | 15
Total | 16,500 |  |  | 950

Dated: March 16, 2009.
Maryam I. Daneshvar,
Acting Reports Clearance Officer, Centers for Disease Control and Prevention.

[FR Doc. E9-6938 Filed 3-27-09; 8:45 am]

BILLING CODE 4163-18-P